EXPORT-IMPORT BANK OF THE UNITED STATES

Economic Impact Policy

This notice is to inform the public that the Export-Import Bank of the United States has received an application to finance the export of approximately $480 million in U.S. equipment and services to a petrochemicals facility in Saudi Arabia. The U.S. exports will enable the petrochemicals facility to produce approximately 1.1 million metric tons of high-density polyethylene, 400 thousand metric tons of polypropylene, 200 thousand metric tons of polystyrene and 100 thousand metric tons of hexene-1. Initial production at this facility is expected to commence in 2011.

Available information indicates the following: The high-density polyethylene will be consumed in Asia, Europe, Africa and the Middle East; the polypropylene will be consumed in Asia, Western Europe and the Middle East; the polystyrene will be consumed in China, Africa, Europe and the Middle East; and the hexene-1 will be consumed in Saudi Arabia. Interested parties may submit comments on this transaction by e-mail to economic.impact@exim.gov or by mail to 811 Vermont Avenue, NW., Room 1238, Washington, DC 20571, within 14 days of the date this notice appears in the Federal Register.

Helene S. Walsh,
Director, Policy Oversight and Review.

[FR Doc. E6-11759 Filed 7-24-06; 8:45 am]

BILLING CODE 6690-01-P